POSTAL SERVICE

39 CFR Part 111

Electronic Verification System Migrated to USPS Ship

AGENCY: Postal Service™.

ACTION: Final rule.

SUMMARY: The Postal Service is amending Mailing Standards of the United States Postal Service, Domestic Mail Manual (DMM®) to require the use of USPS Ship™ (aka Package Platform) for the acceptance and payment of all commercial domestic and international parcel mailings and discontinue the use of the Electronic Verification System (eVS®).

DATES: Effective Date: February 1, 2025.

FOR FURTHER INFORMATION CONTACT: Diane Smith at (202) 268-8091, Vicki Bosch (202) 268-4978 or Garry Rodriguez at (202) 268-7281.

SUPPLEMENTARY INFORMATION: On November 28, 2023, the Postal Service published a notice of proposed rulemaking (88 FR 83056-83062) to require the use of USPS Ship. In response to the proposed rule, the Postal Service received two responses containing multiple comments, as follows:

Comment: One commenter recommended the final rule clarify that USPS Ship will replace only eVS and that all other payment and acceptance channels including Click-N-Ship, ePostage, PC Postage, IBI postage meters, non-eVS (BMEU entered and permit imprint) will be unaffected unless specifically addressed.

Response: All commercial packages will be verified through USPS Ship.

Comment: One commenter recommended the final rule clarify that for purposes of the migration from eVS to USPS Ship, negotiated service agreement (NSA) provisions governing payment and acceptance processes will not be changed, rather USPS Ship will be deemed a successor system to eVS, and that the migration will not otherwise modify preexisting contractual payment and acceptance processes.

Response: In Terms of NSAs, customers are expected to transition to the successor system which is USPS Ship.

Comment: One commenter recommended the final rule clarify any planned changes in the refund and disputes processes to ensure quality control and quality assurance for fee assessment in connection with the migration to USPS Ship.

Response: The Postal Service has the USPS Ship User Guide, which will be available on PostalPro at https://postalpro.usps.com, and mailers should reference the document for all information regarding USPS Ship including questions for refunds and disputes.

Comment: Two commenters expressed concern over the implementation date. One commenter stated they appreciate the need to identify an aggressive target implementation date, in this case February 1, 2025. However, past experiences with comparable payment systems migrations underscore the countervailing importance of setting and measuring incremental progress against intermediate benchmarks. This is especially important for competitive package products offered in a highly competitive marketplace. Another commenter stated that there are concerns that the planned schedule will not allow sufficient time for the Postal Service's systems to stabilize or for shippers to make necessary system changes in response.

Response: While the Postal Service works with the industry toward meeting the target implementation date, we will consider if any extensions to the date are needed.

The Postal Service is requiring the use of USPS Ship for the acceptance and payment of all commercial domestic and international parcel mailings. USPS Ship combines the attributes captured from scan data and manifested attributes to ensure customers are charged accurate postage. For consolidators, if there are adjustments to inaccurate original postage, those individual package costs can be provided to the mail owners.

USPS Ship offers online enrollment, individual package pricing, automated adjustments, online reports, and data feeds via IV-MTR. The automated capture enables individual package attributes to be compared to manifest data to validate accurate postage. Shortpaid (postage due) or overpaid (refunds) will be assessed upon package delivery and applied to the Enterprise Payment Account (EPA) on file.

Requirements to participate in USPS Ship are as follows:

• Customers must enroll in USPS Ship and be assigned a unique Mailer Identifier (MID) for use on packages.

• Customers must submit valid rate ingredients for payment for each package within their shipment.

• Customers must upload manifests to USPS using the Parcel Data Exchange or Electronic Interchange (SFTP or AS2) for payment as noted in eVS Pub 205.

• Customers must pay postage through an Enterprise Payment Account.

• Packages must include a Tracking Number that is unique for 120 days.

• Customers must ship the following products:

○ Domestic Products—Priority Mail Express®, Priority Mail®, USPS Ground Advantage™ (formerly First-Class Package® Service), Bound Printed Matter, Media Mail®, Library Mail, USPS Marketing Mail® parcels, USPS Marking Mail Nonprofit parcels, Parcel Select® Destination Entry, USPS Connect™ Local, USPS Connect Local Mail, and USPS Returns®.

○ International Products—Global Express Guaranteed®, Priority Mail Express International®, Priority Mail International®, and First-Class Package International Service®.

Manifest Mailing Operations in USPS Ship

Mailers and shippers who meet program requirements must ship parcels using the following procedure:

1. The mailer/parcel shipper transmits an electronic manifest to the Postal Service detailing all USPS Ship parcels to be deposited into the mailstream on or before the date of mailing.

2. USPS Ship will validate the electronic manifest and calculate postage based on rate ingredients.

3. Postage is charged to the EPA on the day that the manifest was submitted and processed. Transactions and manifest summary information can be accessed through the online reports or data feeds.

4. The mailer/parcel shipper transports and enters the mail at the appropriate origin or destination entry (NDC/RP&DC, SCF/RP&DC, DHub, DDU or S&DC) Postal Service facility.

5. As parcels are deposited at the origin entry facilities, packages are run across Mail Processing Equipment (MPE) and captured attributes (weight, dimensions, entry, packaging) are transmitted to USPS Ship. The captured attributes are compared to manifested attributes to ensure the correct postage has been paid. If there are discrepancies, shortpaid/overpaid will be applied to the EPA.

6. As parcels are deposited at the DDU or DS&DC facilities, packages are sampled, and the sampled attributes are compared to the manifested attributes. A Statistical Quality Assessment is performed, and additional postage will be charged to the EPA.

7. Assessment details can be accessed through the online reports or data feeds.

Postage Assessments

USPS Ship will collect postage daily based on the electronic manifest(s) received that day from mailers. In addition, postage will be calculated and assessed for the following types of errors when detected:

• Census Verification occurs for packages that are automatically captured while packages are processed on MPE. The individual package information captured may include the weight, dimensions, USPS packaging, ZIP Code of scan, and destination ZIP Code. The captured information will be compared to the manifest information after the delivery scan for the package. The correct postage will be assessed, additional postage will be charged or refunded to reflect the accurate postage for the individual packages.

○ Misshipped is include in the Census Verification. The manifest is matched to a scan and the Destination ZIP Code and Destination Rate Indicator of the is compared to the Mail Direction File (MDF) to determine the correct Dropship location. The ZIP Code of the first scan event is compared to the expected Dropship location indicated in the MDF. If the ZIP Code of the first scan event does not match the expected Dropship location, then a Misshipped error is logged, and additional postage will be charged.

• Unmanifested packages are identified by scanned packages without a manifest for payment in USPS Ship.

• Duplicate packages are identified by scanned packages with duplicate barcodes without a payment for each package in USPS Ship.

• IMpb noncompliance is measured using the same evaluation and established thresholds for the month period as previously required by eVS.

• Presort is measured by the 24-hour period to meet presort minimums by mail class as previously required by eVS.

• Statistical Quality Assessment (SQA) occurs for Parcel Select, Bound Printed Matter, USPS Marketing Mail packages that are entered and claimed at Destination Delivery Unit (DDU) prices. This verification is similar to the Postage Adjustment Factor (PAF), but is limited to DDU or DS&DC entered packages. If the postage for the packages that are sampled at a DDU or DS&DC compared to the manifested data, exceeds 1.5% underpayment, the percentage in error will be multiplied by the total postage for the mail class for the month and this calculated additional postage charge will be assessed. Only packages that are prompted for sampling will be part of this verification, any non- prompted samples will be part of the Census Verification.

• Content Audit is measured using the same business rules as previously required by eVS.

Postage Payment

Commercial shippers entering at a Business Mail Entry Unit (BMEU) with small quantities may use Click-N-Ship or USPS Ship to enter their parcels. Otherwise, payment applies as follows:

• Parcel shippers/consolidators and mailers using permit imprint as the payment method and claiming Commercial or NSA prices that are not using Click-N-Ship are required to use USPS Ship for postage manifesting and payment.

• Parcel shippers/consolidators and mailers who use USPS APIs to create labels and submit their manifest files are also required to enroll in USPS Ship.

Postage Payment Schedule

• Daily—Postage for manifest files is charged the day of the manifest receipt/processing. The census verification is charged/refunded the day of delivery.

• Monthly—Unmanifested, duplicates, IMpb, presort, content audit and SQA are assessed monthly and charged on the 15th of the following month.

Retrieving Data

USPS Ship enables customers to view manifest and assessment data by accessing online reports or subscribing to IV-MTR data feeds.

• Accessing Online Reports—The Online Dashboard provides summary details for manifests that were charged and package level details for postage adjustments. Customers should complete the following to access the USPS Ship Reports:

• Login to the Business Customer Gateway (BCG)

• Click “Go to Service” button on the USPS Ship Report service within Manage Services menu

• Click “Summary Dashboard”

• Monthly Activity Report will be displayed

• Click “Reports” dropdown menu to view and select from the list of available reports

○ Reports can be filtered, sorted, and exported in Excel and CSV formats

• Subscribing to IV-MTR Data Feeds—IV-MTR allows customer to customize to select and organize fields to be included, chose frequency, choose file format, and choose delivery location. Customers should complete the following to setup IV-MTR subscriptions:

• Login to BCG

• Click “Go to Service” button on the Informed Visibility service within Manage Services Menu

• Click “Create and Manage Data Feeds”

• Select Data Feed Type

• Select File Format

• Select Server for Data Feed Delivery

• Select Frequency of Data Feed Delivery

• Define Data Fields of Data Feed

○ Detailed Instructions for accessing IV-MTR can be found under Applying for Access to Informed Visibility Mail Tracking and Reporting on PostalPro. Detailed instructions for customizing data feeds can be found under `Orientation Training for Informed Visibility Mail Tracking and Reporting' on PostalPro

eVS Discontinued

Due to the ability to automatically capture package attributes, and the new system infrastructure, the Postal Service will discontinue eVS.

We believe the proposed revisions will provide customers with a more efficient mailing experience.

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Mail Letters, Flats, and Parcels

* * * * *

202 Elements on the Face of a Mailpiece

* * * * *

3.0 Placement and Content of Mail Markings

* * * * *

3.8 Exceptions to Markings

Exceptions are as follows:

* * * * *

[Revise the last sentence of the introductory text of item b to read as follows:]

b. * * * Mail manifested using the USPS Ship system under 705.2.0 must bear the basic marking and the additional marking “USPS Ship” in two places:

* * * * *

6.0 Barcode Placement for Parcels

* * * * *

6.3 Intelligent Mail Barcodes

[Revise the first sentence of 6.3 to read as follows:]

Intelligent Mail barcodes (IMb) do not meet barcode eligibility requirements for parcels and do not qualify for any barcode-related prices for parcels, but one barcode may be included only in the address block on a parcel, except on USPS Ship parcels. * * *

* * * * *

203 Basic Postage Statement, Documentation, and Preparation Standards

1.0 Postage Statements

1.1 Completing Postage Statements

[Revise the first sentence under 1.1 to read as follows:]

Unless manifested using USPS Ship under 705.2.9, any mailing claiming a discount and all permit imprint mailings must be accompanied by a postage statement completed and signed by the mailer (in duplicate if the mailer wants a receipted copy). * * *

* * * * *

2.0 Documentation

2.1 Basic Documentation Standards

[Revise the second sentence of 2.1 to read as follows:]

* * * Supporting documentation (see 3.0) of postage is required for each mailing except for USPS Ship mailings under 705.2.9, or unless the correct price is affixed to each piece or each piece is of identical weight and the pieces are separated by price and when applicable zone (including separation by In-County and Outside-County prices and destination entry for Periodicals) when presented for acceptance. * * *

* * * * *

5.0 Letter and Flat Trays

* * * * *

5.13 Line 3 (Office of Mailing or Mailer Information Line)

[Revise the text of 5.13 to read as follows:]

Line 3 (origin line showing office of mailing or mailer information) must be the bottom line of required information unless the sack/flat tray contains mail manifested using the USPS Ship under 705.2.9. Line 3 must show either the city and state of the entry Post Office or the mailer`s name and the city and state of the mailer`s location. It is recommended that the mailer`s name also appear with the city and state of the entry Post Office. As an alternative to adding a fourth line for USPS Ship mailings as required by 5.6, “USPS Ship” may appear as the first element on Line 3.

* * * * *

6.0 Sacks

* * * * *

6.4 USPS Ship System

[Revise the text of 6.4 to read as follows:]

All sacks containing parcels prepared and identified using the USPS Ship program under 705.2.9 must show “USPS Ship” directly below Line 3 using the same size and lettering used for Line 3. As an option, “USPS Ship” may be placed as the first element on Line 3.

* * * * *

204 Barcode Standards

* * * * *

2.0 Standards for Package and Extra Service Barcodes

2.1 Intelligent Mail Package Barcode

* * * * *

2.1.8 Compliance Quality Thresholds

* * * * *

Exhibit 2.1.8 IMpb Compliance Quality Thresholds

Compliance Categories Compliance Codes Validations Compliance Thresholds

* * * * *

[Revise the fifth bullet under the “Validations” column to read as follows:]

• Customers using USPS Ship must provide the address information before the Arrival at Unit (07) Event Scan and non-USPS Ship customers at the time of mailing.

* * * * *

210 Commercial Mail Priority Mail Express

213 Prices and Eligibility

1.0 Prices and Fees

* * * * *

1.2 Determining Single-Piece Weight

[Revise the first sentence of 1.2 to read as follows:]

When determining single-piece weight, express all weights in decimal pounds rounded off to two decimal places (except mailers using USPS Ship). * * *

1.3 Commercial Prices

Priority Mail Express commercial prices are less than Priority Mail Express retail prices (see Notice 123—Price List). These prices are available to:

* * * * *

[Revise the text of item d to read as follows:]

d. Customers who pay postage with a permit imprint using the USPS Ship system to document and pay postage (see 705.2.9).

* * * * *

214 Postage Payment and Documentation

* * * * *

1.0 Basic Standards for Postage Payment Options

* * * * *

1.2 Commercial Prices

Commercial Priority Mail Express postage may be paid with:

* * * * *

[Revise the text of item d to read as follows:]

d. Permit imprint through the USPS Ship system under 705.2.9.

* * * * *

220 Commercial Mail Priority Mail

223 Prices and Eligibility

1.0 Prices and Fees

* * * * *

1.3 Cubic

1.3.1 Cubic Eligibility

* * * * *

[Revise the second sentence of item b to read as follows:]

b. Permit imprint customers. * * * Customers are required to use the USPS Ship program or submit an electronic postage statement with a computerized manifest under 705.2.0. * * *

* * * * *

1.7 Determining Single-Piece Weight

[Revise the third and fourth sentence in 1.7 to read as follows:]

* * * Except for mailers using USPS Ship, express all single-piece weights in decimal pounds rounded off to two decimal places. Mailers using USPS Ship may round off to four decimals, and USPS Ship will automatically round to the appropriate decimal place. * * *

* * * * *

240 Commercial Mail USPS Marketing Mail

243 Prices and Eligibility

1.0 Prices and Fees

* * * * *

1.4 Fees

1.4.1 Presort Mailing Fee

[Revise the third sentence in 1.4.1 to read as follows:]

* * * For mail manifested using the USPS Ship System under 705.2.9, only one annual mailing fee, paid at the Post Office of account where the permit imprint account is held, is required regardless of the number of Post Offices of mailing. * * *

* * * * *

244 Postage Payment and Documentation

1.0 Basic Standards for Postage Payment

[Revise the third sentence in 1.0 to read as follows:]

* * * Mail manifested using the USPS Ship system under 705.2.9 must be paid with a permit imprint. * * *

* * * * *

250 Commercial Mail Parcel Select

253 Prices and Eligibility

1.0 Prices and Fees

* * * * *

1.3 Computing Postage

1.3.1 Determining Single-Piece Weight

[Revise the third and fourth sentence in 1.3.1 to read as follows:]

* * * Except for mailers using the USPS Ship system or preparing Parcel Select lightweight mailings, when determining single-piece weight for Parcel Select mailpieces, express all weights in decimal pounds rounded off to two decimal places. Mailers using USPS Ship may round off to four decimals, and USPS Ship will automatically round to the appropriate decimal place. * * *

* * * * *

254 Postage Payment and Documentation

1.0 Basic Standards for Postage Payment

1.1 Postage Payment Options

1.1.1 Parcel Select Destination Entry

Parcel Select destination entry postage may be paid as follows:

* * * * *

[Revise the first and second sentence of item c to read as follows:]

c. Except for plant-verified drop shipments (see 705.17.0), USPS Ship shipments (see 705.2.9), and metered mail drop shipments (see 705.19.0), the mailer must have a meter license or permit imprint authorization at the destination facility parent Post Office for mailings deposited for entry at a DNDC/DRP&DC or ASF/RP&DC, at a DSCF/DRP&DC, or at the parent Post Office of a DDU or DS&DC. Except for manifested mail using USPS Ship under 705.2.9, postage and fees are paid to the Post Office that verifies the mailings. * * *

* * * * *

2.0 Mailing Documentation

2.1 Completing Postage Statements

[Revise the first sentence in 2.1 to read as follows:]

All metered and permit imprint mailings of 50 pieces or more, except manifested mail using USPS Ship under 705.2.9, must be accompanied by a postage statement completed and signed by the mailer (in duplicate if the mailer wants a receipted copy). * * *

* * * * *

256 Enter and Deposit

* * * * *

2.0 Deposit

* * * * *

2.5 Mail Separation and Presentation of Destination Entry Mailings

[Revise the second and third sentence in 2.5 to read as follows:]

* * * Mailers may deposit only PVDS and USPS Ship mailings at a destination delivery unit not co-located with a Post Office or other Postal Service facility with a business mail entry unit. If authorized under 705.7.0, mailers may commingle Parcel Select with other approved parcel mail using USPS Ship. * * * Mailers presenting destination entry mailings to the Postal Service must meet the following requirements:

[Revise the last sentence of item a to read as follows:]

a. * * * If USPS Ship is used, include the marking “USPS Ship” on each piece as described in 604.5.0.

* * * * *

[Revise the last sentence of items c and d to read as follows:]

c. * * * USPS Ship mailings do not require these forms.

d. * * * For PVDS mailings and USPS Ship mailings, separate mailings for deposit at different destination Postal Service facilities.

* * * * *

260 Commercial Mail Bound Printed Matter

263 Prices and Eligibility

1.0 Prices and Fees

* * * * *

1.2 Presorted and Carrier Route Bound Printed Matter

* * * * *

1.2.5 Destination Entry Mailing Fee

[Revise the second sentence of 1.2.5 to read as follows:]

* * * For BPM Flats destination entry mail manifested using USPS Ship under 705.2.9, only one annual BPM Flats destination entry mailing fee, paid at the Post Office where the USPS Ship permit imprint account is held, is required regardless of the number of Postal Service facilities where mailings are verified. * * *

* * * * *

265 Mail Preparation

* * * * *

8.0 Preparing Presorted Parcels

* * * * *

8.2 Preparing Irregular Parcels Weighing Less Than 10 Pounds

8.2.1 Required Bundling

* * * Each physical bundle must contain at least two addressed pieces (except mixed ADC/RP&DC bundles). Bundling also is subject to these conditions:

* * * * *

[Revise the text of item c to read as follows:]

c. Mailers must note on the postage statement whether they applied the piece count, weight, or both, except for USPS Ship mailings prepared under 705.2.9.

* * * * *

8.2.3 Required Sacking

* * * Sacking also is subject to these conditions:

* * * * *

[Revise the text of item c to read as follows:]

c. Mailers must note on the postage statement whether they applied the piece count or weight except for USPS Ship mailings prepared under 705.2.9.

* * * * *

8.4 Preparing Machinable Parcels Not Claiming DNDC Prices

8.4.1 Required Sacking

* * * Sacking also is subject to these conditions:

* * * * *

[Revise the text of item c to read as follows:]

c. Mailers must note on the postage statement whether they applied the piece count or weight except for USPS Ship mailings prepared under 705.2.9.

* * * * *

8.5 Preparing Machinable Parcels Claiming DNDC Prices

8.5.1 Required Sacking

* * * Sacking also is subject to these conditions:

* * * * *

[Revise the text of item c to read as follows:]

c. Mailers must note on the postage statement whether they applied the piece count or weight except for USPS Ship mailings prepared under 705.2.9.

* * * * *

266 Enter and Deposit

* * * * *

3.0 Destination Entry

* * * * *

3.2 Minimum Volume

A destination entry price BPM mailing is subject to these minimum volume requirements:

* * * * *

[Revise the first sentence of item f to read as follows:]

f. When Bound Printed Matter presorted parcel mailings are presented together under the USPS Ship system, a mailer may use the total piece count for all line items to all destinations reported within the 24-hour mailing period defined in 705.2.9. * * *

* * * * *

270 Commercial Mail Media Mail and Library Mail

* * * * *

274 Postage Payment and Documentation

1.0 Basic Standards for Postage Payment

[Revise the second sentence of 1.0 to read as follows:]

* * * Mail manifested using USPS Ship under 705.2.9 must be paid with a permit imprint. * * *

* * * * *

275 Mail Preparation

* * * * *

6.0 Preparing Media Mail and Library Mail Parcels

* * * * *

6.2 Preparing Machinable Parcels

6.2.1 Required Sacking

* * * Sacking also is subject to these conditions:

* * * * *

[Revise the text of item c to read as follows:]

c. Mailers must note on the postage statement which sacking method was used except for USPS Ship mailings prepared under 705.2.9.

* * * * *

6.3 Preparing Irregular Parcels

6.3.1 Required Bundling

* * * Bundling is also subject to these conditions:

* * * * *

c. Mailers must note on the postage statement which sacking method was used except for USPS Ship mailings prepared under 705.2.9.

* * * * *

6.3.3 Required Sacking

* * * Sacking is also subject to these conditions:

* * * * *

[Revise the text of item c to read as follows:]

c. Mailers must note on the postage statement which sacking method was used except for USPS Ship mailings prepared under 705.2.9.

* * * * *

276 Enter and Deposit

1.0 Verification and Deposit

[Revise the first sentence of 1.0 to read as follows:]

Except for USPS Ship shipments (see 705.2.9) or metered mail drop shipments (see 705.20.0), all presorted mailings must be presented for verification and acceptance at the Post Office where the permit or license is held. * * *

* * * * *

280 Commercial Mail USPS Ground Advantage—Commercial

* * * * *

284 Postage Payment and Documentation

* * * * *

2.0 Postage Payment for USPS Ground Advantage—Commercial

2.1 Permit Imprint Postage

[Revise the second sentence of 2.1 to read as follows:]

* * * All mail manifested using USPS Ship under 705.2.9 must be paid using a permit imprint. * * *

* * * * *

500 Additional Services

* * * * *

507 Mailer Services

* * * * *

3.0 Hold For Pickup

* * * * *

3.2 Basic Information

* * * * *

3.2.2 Basic Eligibility

It is also available with commercial mailings of Priority Mail Express presented under 213.4.2 or 213.4.3, Priority Mail, USPS Ground Advantage—Commercial, Parcel Select Lightweight, and Bound Printed Matter parcels, when:

* * * * *

[Revise the last sentence of item b to read as follows:]

b. * * * If the pieces are not of identical weight, then either the exact postage must be affixed to each piece or postage must be paid with permit imprint using USPS Ship (705.2.9).

* * * * *

508 Recipient Services

* * * * *

7.0 Premium Forwarding Services

* * * * *

7.3 Premium Forwarding Service Commercial

* * * * *

7.3.3 Conditions

* * * PFS-Commercial service is subject to these conditions:

* * * * *

[Revise the text of item b to read as follows:]

b. The annual enrollment fee and applicable Priority Mail Express or Priority Mail postage for each shipment container is paid using an USPS Ship account linked to the Enterprise Payment System (EPS).

* * * * *

600 Basic Standards for All Mailing Services

* * * * *

604 Postage Payment Methods and Refunds

* * * * *

5.0 Permit Imprint (Indicia)

5.1 General Standards

5.1.1 Definition

[Revise the second sentence of 5.1.1 to read as follows:]

* * * This payment method may be used for postage and extra service fees for Priority Mail Express (“USPS Ship” only), Priority Mail, First-Class Mail, USPS Ground Advantage—Commercial, USPS Marketing Mail, Package Services, and Parcel Select mailpieces. * * *

5.1.2 Minimum Volume

Permit imprint mailings must contain at least 200 pieces or 50 pounds of mail, except:

* * * * *

[Revise the first and second sentence of item g to read as follows:]

g. A mailing containing 50 pieces or 50 pounds of nonpresorted single-piece domestic mail parcels submitted under the terms of an approved Manifest Mailing System (including USPS Ship) agreement under 705.2.0. Mailers may include any combination of the following products under this provision: Priority Mail Express (USPS Ship only), Priority Mail, USPS Ground Advantage—Commercial parcels, nonpresorted Bound Printed Matter parcels, and single-piece Media Mail and Library Mail parcels. * * *

* * * * *

5.1.5 Application Fee

[Revise the first sentence of 5.1.5 to read as follows:]

An application fee is required only when a permit imprint is used as the payment method for First-Class Mail, USPS Marketing Mail, Bound Printed Matter Flats and international mail, and the mailer does not use USPS Ship. * * *

* * * * *

5.3.6 Priority Mail Express, Priority Mail, First-Class Mail, and USPS Ground Advantage—Commercial Format

A permit imprint indicia on Priority Mail Express, Priority Mail, First-Class Mail, or USPS Ground Advantage—Commercial mailpieces must be formatted as follows:

[Revise the second sentence of item a to read as follows:]

a. * * * If the USPS Ship program is used under 705.2.9, the marking “USPS Ship” must appear directly below the permit number. * * *

* * * * *

5.3.7 USPS Marketing Mail, Parcel Select and Package Services Format

[Revise the second sentence of 5.3.7 to read as follows:]

* * * If USPS Ship is used under 705.2.9, the marking “USPS Ship” must appear directly below the permit number. * * *

* * * * *

5.3.9 Use of a Company Permit Imprint

[Revise the second and third sentence in the introductory text of 5.3.9 to read as follows:]

* * * If a company permit imprint is used for USPS Ship under 705.2.9, the marking “USPS Ship” is placed directly below the name on a separate line. As an option for USPS Ship mail only, “Permit No.” and the permit number used exclusively for USPS Ship may appear on a separate line between the company name and the marking “USPS Ship.” * * *

* * * * *

608 Postal Information and Resources

* * * * *

7.0 Trademarks and Copyrights of the USPS

7.1 USPS Trademarks

[Revise the list of trademarked items under 7.1 by deleting “eVS” and “e-VS”, and add USPS Ship alphabetically.]

* * * * *

609 Filing Indemnity Claims for Loss or Damage

1.0 General Filing Instructions

* * * * *

1.3 Who May File

A claim may be filed by:

* * * * *

[Revise the text of item e to read as follows:]

e. Only the mailer, for insured or collect on delivery (COD) parcels paid using USPS Ship under 705.2.9.

* * * * *

3.0 Providing Evidence of Insurance and Value

3.1 Evidence of Insurance

* * * Examples of acceptable evidence are:

* * * * *

[Revise the introductory text of item d to read as follows:]

d. For insured mail or COD mail paid using MMS or USPS Ship under 705.2.0, or for insured mail paid using an EPS account for USPS Returns service under 505.3.0, the mailer must use one of the following:

* * * * *

700 Special Standards

* * * * *

705 Advanced Preparation and Special Postage Payment Systems

* * * * *

2.0 Manifest Mailing System

2.1 Description

* * * * *

2.1.2 Eligible Mail

[Revise the second sentence of 2.1.2 to read as follows:]

* * * For Priority Mail Express (USPS Ship only) see 2.9. * * *

* * * * *

2.1.4 USPS Ship System

[Revise the text of 2.1.4 to read as follows:]

Mailers using a MMS when presenting Parcel Select destination entry mailings under 256.2.0 or commingled parcel mailings under 6.0 or 7.0, may document and pay postage using USPS Ship (see 2.9). Business Acceptance Solutions, USPS Headquarters, must approve these systems. Unless authorized by Business Acceptance Solutions, mailers may not commingle USPS Ship mail with non-USPS Ship mail within the same mailing or place USPS Ship mail and non-USPS Ship mail in or on the same mailing container.

* * * * *

2.4 Authorization

2.4.1 Application

The mailer must submit an MMS application and supporting documentation as specified on the application to the postmaster of each Post Office where mailings will be deposited and under the publications as follows:

* * * * *

[Revise the text of item b to read as follows:]

b. Publication 205, USPS Ship Technical Guide, provides the USPS Ship application procedures for mailers. Customers using an Electronic Manifesting Solution for Parcels must also establish a user account and mailer agreement with USPS in the Business Customer Gateway at https://gateway.usps.com.

* * * * *

2.4.3 General Requirements for Authorization

General requirements for authorization are as follows:

* * * * *

[Revise the introductory text of item c to read as follows:]

c. For USPS Ship mailings prepared under 2.9, USPS charges USPS Ship mailers for postage due for any underpaid, unmanifested, or mis-shipped destination delivery unit (DDU) parcels at the end of the review period following the monthly mailing period as follows:

* * * * *

[Revise the first sentence of item c2 to read as follows:]

2. Unmanifested Parcels. USPS charges USPS Ship mailers for parcels not listed in the mailer`s manifest files but identified by USPS processing scans or acceptance and delivery scans as being mailed. * * *

[Revise the first sentence of item c3 to read as follows:]

3. Mis-Shipped DDU or DS&DC Parcels. USPS charges USPS Ship mailers the appropriate single-piece price less the original price paid for parcels identified by acceptance scans to be deposited at incorrect destination delivery units or sorting and delivery centers. * * *

* * * * *

2.4.5 Approval Authority

Approval authority for manifest mailing systems is as follows:

* * * * *

[Revise the text of item b to read as follows:]

b. The director, Business Acceptance Solutions, USPS Headquarters, approves MMS that produce presorted First-Class Mail (except as noted in 2.4.5a) or USPS Marketing Mail mailings, Package Services or Parcel Select presort mailings, PVDS mailings, or USPS Ship mailings.

* * * * *

[Revise the heading and text of 2.6 to read as follows:]

2.6 USPS Ship System

The USPS Ship program is an electronic manifest mailing system that allows mailers to document and pay postage and extra services fees by transmitting electronic files to the Postal Service without generating paper manifests, postage statements, or clearance documents. Additional information on USPS Ship can be found online and in Publication 205, USPS Ship Business and Technical Guide, available on PostalPro at https://postalpro.usps.com.

* * * * *

7.0 Combining Package Services and Parcel Select Parcels for Destination Entry

7.1 Combining Parcels—DSCF/DRP&DC and DDU or DS&DC Entry

* * * * *

7.1.2 Basic Standards

Package Services and Parcel Select parcels that qualify as machinable, nonmachinable, and irregular under 201 and meet the following conditions may be combined in 5-digit scheme and 5-digit sacks or 5-digit scheme and 5-digit pallets under these conditions:

* * * * *

[Revise the second sentence of item b to read as follows:]

b. * * * For mailings presented under 7.0, mailers may document and pay postage using USPS Ship under 2.9.

* * * * *

7.2 Combining Parcel Select and Package Services Machinable Parcels for DNDC/DRP&DC Entry

* * * * *

7.2.2 Basic Standards

Parcel Select and Package Services parcels must meet the following conditions:

* * * * *

[Revise the second sentence of item d to read as follows:]

d. * * * For mailings presented under 7.0, mailers may document and pay postage using USPS Ship under 2.9.

* * * * *

8.0 Preparing Pallets

* * * * *

8.6 Pallet Labels

* * * * *

8.6.6 Line 3

[Revise the third sentence of the introductory text of 8.6.6 to read as follows:]

* * * Labels on containers of parcels prepared using USPS Ship under 2.9 must show “USPS Ship” either to the left of required line 3 information or directly below line 3 using the same size and lettering used for line 3. * * *

* * * * *

18.0 riority Mail Express Open and Distribute and Priority Mail Open and Distribute

18.1 Prices and Fees

* * * * *

18.1.6 Postage Statement for Enclosed Mail

[Revise the text of 18.1.6 to read as follows:]

The mailer must provide the correct postage statement for the enclosed mail unless prepared under USPS Ship. If the enclosed mail is zone-priced, the mailer must either provide documentation that details the pieces and postage, by zone for each Priority Mail Express Open and Distribute or Priority Mail Open and Distribute shipment destination or provide a separate postage statement for each Priority Mail Express Open and Distribute or Priority Mail Open and Distribute shipment destination. The mailer must always present the mailing to the designated USPS acceptance unit for verification of postage and fees. A postage statement is not required for the Priority Mail Express or Priority Mail portion of the Open and Distribute shipment, unless Priority Mail postage is paid by permit imprint not prepared under USPS Ship.

* * * * *

18.5 Preparation

* * * * *

18.5.3 Tags 257 and 267—Priority Mail Express Open and Distribute

[Revise the second sentence of the introductory text of 18.5.3 to read as follows:]

* * * For mailings prepared under USPS Ship, use blue Tag 257-EVS and yellow Tag 267-EVS. * * *

* * * * *

18.5.4 Tags 161 and 190—Priority Mail Open and Distribute

[Revise the second sentence of the introductory text of 18.5.4 to read as follows:]

* * * For mailings prepared under USPS Ship, use green Tag 161-EVS and pink Tag 190-EVS. * * *

* * * * *

18.5.7 Address Label Service Barcode Requirement

[Revise the first sentence in the introductory text of 18.5.7 to read as follows:]

An electronic service barcode must include USS 128 or Intelligent Mail package barcode (IMpb) (USPS Ship approved mailers) symbology for Priority Mail Express Open and Distribute, and the IMpb symbology for Priority Mail Open and Distribute in the address label. * * *

* * * * *

18.6 Enter and Deposit

* * * * *

18.6.3 Postmark and Signing Tags and Labels

[Revise the text of 18.6.3 to read as follows:]

Upon completion of the verification and acceptance of the contents, all Open and Distribute tags and labels must be postmarked and signed in the space provided unless prepared under an authorized USPS Ship manifest mailing system. Open and Distribute USPS Ship tags and labels bear the marking “APPROVED USPS Ship MAILER” in the space normally designated for the postmark and signature.

* * * * *

21.0 Optional Combined Parcel Mailings

21.1 Basic Standards for Combining Parcel Select, Package Services, and USPS Marketing Mail Parcels

* * * * *

21.1.2 Postage Payment

[Revise the last sentence of 21.1.2 to read as follows:]

* * * Mailers may document and pay postage using USPS Ship under 2.9.

* * * * *

Index

* * * * *

E

* * * * *

[Delete the “Electronic Verification System (eVS), 705.2.9” line item.

* * * * *

U

* * * * *

[Alphabetically under “U” list the following:]

USPS Ship, 705.2.9

* * * * *

Colleen Hibbert-Kapler,
Attorney, Ethics and Legal Compliance.

[FR Doc. 2024-08814 Filed 4-24-24; 8:45 am]

BILLING CODE 7710-12-P